GENERAL SERVICES ADMINISTRATION

President's Commission on the Celebration of Women in American History

AGENCY: General Services Administration.

ACTION: Meeting notice.

SUMMARY: Notice is hereby given that the President's Commission on the Celebration of Women in American History will hold an open meeting from 9 a.m. to 4:30 p.m. on Tuesday, June 6, 2000. The meeting will be held at the U.S. Custom House, #1 Bowling Green, in Lower Manhattan, New York City.

Purpose: To hear testimony about the recommendations for institutionalizing ways to commemorate women in American history and review current related activities. Guest speakers will address how to celebrate achievements of American Women and review the status of the Commission's recommendations for action for the year 2000. Participants may wish to make a statement covering personal interests in the history of women in America or share thoughts on appropriate commemorative events.

FOR FURTHER INFORMATION CONTACT: Martha Davis (202) 501-0705, Assistant to the Associate Administrator for Communications, General Services Administration. Also, inquiries may be sent to martha.davis@gsa.gov.

Dated: April 27, 2000.
Beth Newburger,
Associate Administrator for Communications.

[FR Doc. 00-11090 Filed 5-3-00; 8:45 am]

BILLING CODE 6820-34-M